DEPARTMENT OF HEALTH AND HUMAN SERVICES

Centers for Disease Control and Prevention

[60Day-14-14ARJ]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to Leroy Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Clinic Context Matters Study-New-National Center for HIV/AIDS, Viral Hepatitis, STD, and TB Prevention (NCHHSTP), Centers for Disease Control and Prevention (CDC).

Background and Brief Description

The daily use of specific antiretroviral medications by persons without HIV infection, but at high risk of sexual or injection exposure to HIV, has been shown to be a safe and effective HIV prevention method. The Food and Drug Administration approved the use of Truvada® for preexposure prophylaxis (PrEP) in July 2012 and CDC has issued Public Health Service clinical practice guidelines for its use. Because approximately 50,000 new HIV infections continue to occur each year, with rates of HIV infection increasing most rapidly for young MSM and because severe disparities in HIV infection continue among African-American men and women, incorporation of PrEP into HIV prevention is important. However, as a prevention tool in very early stages of introduction and use, there is much we need to learn about how to implement PrEP in a real-world setting.

CDC is requesting OMB approval to collect data over a 3-year period that will be used to conduct research among clinicians about their knowledge, attitudes, and practices related to a new intervention (PrEP) over the period of its initial introduction in their clinics. The knowledge gained will be used to refine measurement instruments and methods (for example, identify modifications to questions in the current surveys that are unclear to participants), develop training and educational resources and tools for use by CDC/DHAP (Division of HIV/AIDS Prevention)-funded partners, and other organizations supporting delivery of PrEP in clinical settings.

The project will be conducted in clinics in each of four cities (Houston, Newark, Chicago, and Philadelphia) where PrEP has recently become available through a local community health center.

Once per year for 3 years, CDC will conduct an online survey of clinicians at participating clinics to collect data on the demographics of the respondents and their knowledge, attitudes, practices, and organizational factors related to PrEP and its delivery in their clinics. Surveys will be administered through an online survey Web site.

There are no costs to respondents other than their time.

Estimated Annualized Burden Hours
Type of respondent | Form name | Number of respondents | Number of responses per respondent | Average hours per response | Total response burden hours)
Clinician | Clinician Consent and Interview | 175 | 1 | 30/60 | 88
Total |  |  |  |  | 88

Leroy Richardson,
Chief, Information Collection Review Office, Office of Scientific Integrity, Office of the Associate Director for Science, Office of the Director, Centers for Disease Control and Prevention.

[FR Doc. 2014-18940 Filed 8-8-14; 8:45 am]

BILLING CODE 4163-18-P